DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of DOE's responsibility to develop a regulation pursuant to section 934 of the Energy Independence and Security Act of 2007 (EISA) on implementing the Convention on Supplementary Compensation for Nuclear Damage (CSC), including whether the information shall have practical utility; (b) the accuracy of DOE's estimate of the burden of the proposed collection of information, including whether the information shall have practical utility; (c) ways to enhance the quality, utility, and clarity of the information to be collected; and (d) ways to minimize the burden of the collection of information on respondents, including through the use of automated collection techniques or other forms of information technology.

DATES: Comments regarding this proposed information collection must be received on or before October 3, 2016. If you anticipate difficulty in submitting comments within that period, contact the person listed in ADDRESSES as soon as possible.

ADDRESSES: Written comments may be submitted electronically by emailing them to: Section934Rulemaking@Hq.Doe.Gov. We note that email submission will avoid delay associated with security screening of U.S. Postal Service mail.

Also, written comments should be addressed to Sophia Angelini, Attorney-Advisor, Office of General Counsel for Civilian Nuclear Programs, GC-72, U.S. Department of Energy, 1000 Independence Avenue SW., Washington, DC 20585.

FOR FURTHER INFORMATION CONTACT: Requests for additional information should be directed to Sophia Angelini, Attorney-Advisor, Office of General Counsel for Civilian Nuclear Programs, GC-72, U.S. Department of Energy, 1000 Independence Avenue SW., Washington, DC 20585; telephone (202) 586-0319. Copies of the information collection instrument and instructions can be viewed at http://www.energy.gov/gc/convention-supplementary-compensation-rulemaking.

SUPPLEMENTARY INFORMATION: On December 17, 2014, DOE published a notice of proposed rulemaking (NOPR) in the Federal Register (79 FR 75076) in which it proposed regulations under section 934 of EISA to establish a retrospective risk pooling program whereby, in the event of certain nuclear incidents, nuclear suppliers would be responsible to pay for any contribution by the United States government to the international supplementary fund created by the CSC. DOE held an information session on the proposed regulation on January 7, 2015, followed by a day-long public workshop on February 20, 2015 (80 FR 4227). On March 9, 2015, DOE granted an extension of the public comment period on the NOPR to April 17, 2015 (80 FR 12352). The extension notice highlighted areas of particular attention for public comment, and indicated an intent of DOE's to conduct additional data and information gathering in response to and in consideration of comments provided in the public review and comment process. This proposed collection of information responds in part to DOE's intent to gather additional data and information.

This information collection request contains: (1) OMB Number: New; (2) Information Collection Request Title: Data Collection for Convention on Supplementary Compensation for Nuclear Damage Contingent Cost Allocation; (3) Type of Request: New; (4) Purpose: This information collection request is necessary for DOE to develop its regulation containing the risk-informed formula required by section 934(e) of EISA for calculating the deferred payment of a nuclear supplier; (5) Annual Estimated Number of Respondents: 150; (6) Annual Estimated Number of Total Responses: 150; (7) Annual Estimated Number of Burden Hours: 5 annual burden hours per response, 750 total annual burden hours; and (8) Annual Estimated Reporting and Recordkeeping Cost Burden: $1,500 annual cost per Respondent, $225,000 annual cost burden for all Respondents.

Statutory Authority: Section 934(f) of the Energy Independence and Security Act of 2007.

Issued in Washington, DC, on July 29, 2016.
Samuel T. Walsh,
Deputy General Counsel for Energy Policy, Office of General Counsel.

[FR Doc. 2016-18419 Filed 8-2-16; 8:45 am]

BILLING CODE 6450-01-P